DEPARTMENT OF COMMERCE

International Trade Administration

[A-570-916]

Laminated Woven Sacks From the People's Republic of China: Extension of Time Limit for Final Results of the Antidumping Duty Administrative Review

AGENCY: Import Administration, International Trade Administration, Department of Commerce.

Dates: Effective Date: December 3, 2010.

FOR FURTHER INFORMATION CONTACT: Jamie Blair-Walker, AD/CVD Operations, Office 9, Import Administration, International Trade Administration, Department of Commerce, 14th Street and Constitution Avenue, NW., Washington, DC 20230; telephone: (202) 482-2615.

Background

On September 22, 2009, Department of Commerce (“Department”) published the notice of the initiation of the antidumping duty administrative review on laminated woven sacks (“LWS”) from the People's Republic of China (“PRC”), covering the period January 31, 2008, through July 31, 2009. See Initiation of Antidumping and Countervailing Duty Administrative Reviews and Requests for Revocation in Part, 74 FR 48224 (September 22, 2009) (“Initiation Notice”).

On September 13, 2010, the Department published the preliminary results of this review. See Laminated Woven Sacks From the People's Republic of China: Preliminary Results of Antidumping Duty Administrative Review, 75 FR 55568 (September 13, 2010) (“Preliminary Results”). The final results are currently due on January 11, 2011.

Extension of Time Limits for Final Results

Section 751(a)(3)(A) of the Tariff Act of 1930, as amended (“Act”), requires the Department to issue the final results in an administrative review of an antidumping duty order 120 days after the date on which the preliminary results are published. The Department may, however, extend the deadline for completion of the final results of an administrative review to 180 days if it determines it is not practicable to complete the review within the foregoing time period. See section 751(a)(3)(A) of the Act and 19 CFR 351.213(h)(2).

The Department requires additional time to complete this review because the Department must fully analyze and consider complicated issues raised in the parties' case and rebuttal briefs. Furthermore, the Department requires additional time to give parties an opportunity to comment on data placed on the record by the Department after the publication of the Preliminary Results. Thus, it is not practicable to complete this review within the time specified under the Act. Therefore, we are extending the time for the completion of the final results of this review by 60 days to March 14, 2011, the first business day following the extended due date of March 12, 2011.

This notice is published in accordance with sections 751(a)(1) and 777(i)(1) of the Act.

Dated: November 26, 2010.
Barbara E. Tillman,
Acting Deputy Assistant Secretary for Antidumping and Countervailing Duty Operations.

[FR Doc. 2010-30379 Filed 12-2-10; 8:45 am]

BILLING CODE 3510-DS-P